DEPARTMENT OF HOMELAND SECURITY

Federal Emergency Management Agency

44 CFR Part 67

[Docket ID FEMA-2008-0020; Internal Agency Docket No. FEMA-B-1045]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents and others to calculate appropriate flood insurance premium rates for new buildings and the contents in those buildings.

DATES: Comments are to be submitted on or before June 23, 2009.

ADDRESSES: The corresponding preliminary Flood Insurance Rate Map (FIRM) for the proposed BFEs for each community are available for inspection at the community's map repository. The respective addresses are listed in the table below.

You may submit comments, identified by Docket No. FEMA-B-xxxx, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (email) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Crittenden County, Arkansas, and Incorporated Areas
Mississippi River | Approximately at River Mile 741 | None | +234 | Crittenden County.
| Approximately at River Mile 750 | None | +237
| Approximately at River Mile 700 | None | +212
| Approximately at River Mile 727 | None | +226
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Crittenden County
Maps are available for inspection at County Courthouse, 85 Jackson Street, Marion, AR 72482.
Mississippi County, Arkansas, and Incorporated Areas
Mississippi River | Approximately at River Mile 755 | None | +238 | Unincorporated Areas of Mississippi County, City of Luxora.
| Approximately at River Mile 818 | None | +268
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Luxora
Maps are available for inspection at 204 North Main Street, Luxora, AR 72358.
Unincorporated Areas of Mississippi County
Maps are available for inspection at 200 West Walnut, Blytheville, AR 8707635110.
Phillips County, Arkansas, and Incorporated Areas
Mississippi River | Approximately at River Mile 664 | None | +198 | Unincorporated Areas of Phillips County.
| Approximately at River Mile 673 | None | +202
| Approximately at River Mile 618 | None | +174
| Approximately at River Mile 662 | None | +197
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Phillips County
Maps are available for inspection at 620 Cherry Street, Suite 208, Helena, AR 72342.
Garvin County, Oklahoma, and Incorporated Areas
Beef Creek | Approximately 350 feet upstream of the confluence with Washita River | None | +924 | Garvin County.
| Just downstream of East 1520 Road | None | +956
Washita River | Approximately 6,500 feet upstream of Highway 76 | None | +979 | Town of Erin Springs.
| Approximately 7,000 feet upstream of Highway 76 | None | +979
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Garvin County
Maps are available for inspection at 201 W. Grant Avenue, Pauls Valley, OK 73075.
Town of Erin Springs
Maps are available for inspection at 201 W. Grant Avenue, Pauls Valley, OK 73075.
Lamar County, Texas, and Incorporated Areas
Baker Branch | Approximately 799 feet downstream of Loop 286 | None | +503 | City of Paris, Unincorporated Areas of Lamar County.
| Approximately 1,002 feet upstream of Bonham Street | None | +572
Baker Branch Tributary #10 | Just downstream of the confluence with Baker Branch | None | +537 | City of Paris, Unincorporated Areas of Lamar County.
| Approximately 503 feet upstream of Sherman Street | None | +560
Baker Branch Tributary #24 | Just upstream of the confluence with Baker Branch | None | +508 | City of Paris, Unincorporated Areas of Lamar County.
| Approximately 59 feet downstream of 7th Street | None | +513
Big Sand Creek Tributary #7 | Just downstream of the confluence with Big Sandy Creek | None | +532 | City of Paris, Unincorporated Areas of Lamar County.
| Approximately 708 feet upstream of 17th Street | None | +569
Big Sandy Creek | Approximately 1,300 feet downstream of Loop 286 | None | +494 | City of Paris, Unincorporated Areas of Lamar County.
| Approximately 475 feet upstream of Sherman Street | None | +571
Big Sandy Creek Tributary #16 | Just upstream of the confluence with Big Sandy Creek Tributary #4 | None | +536 | City of Paris, Unincorporated Areas of Lamar County.
| Just upstream of Cherry Street | None | +568
Big Sandy Creek Tributary #2 | Just upstream of the confluence with Big Sandy Creek | None | +502 | City of Paris, Unincorporated Areas of Lamar County.
| Approximately 647 feet upstream of Lamar Avenue | None | +546
Big Sandy Creek Tributary #3 | Just upstream of Houston Street | None | +557 | City of Paris, Unincorporated Areas of Lamar County.
| Just upstream of the confluence with Big Sandy Creek | None | +588
Big Sandy Creek Tributary #4 | Just downstream of the confluence with Big Sandy Creek | None | +516 | City of Paris, Unincorporated Areas of Lamar County.
| Approximately 888 feet upstream of Price Street | None | +562
Big Sandy Creek Tributary #8 | Just downstream of the confluence with Big Sandy Creek | None | +546 | City of Paris, Unincorporated Areas of Lamar County.
| Approximately 1,045 feet upstream of Hearon Street | None | +574
Cottonwood Branch Tributary #11 | Approximately 75 feet downstream of Old Brookston Road | None | +516 | City of Paris, Unincorporated Areas of Lamar County.
| Approximately 377 feet upstream of Austin Street | None | +584
Pine Creek Tributary #12 | Approximately 852 feet downstream of the confluence with Pine Creek Tributary #13 | None | +506 | City of Paris, Unincorporated Areas of Lamar County.
| Approximately 194 feet downstream of the confluence with Old City Lake | None | +524
Pine Creek Tributary #13 | Just upstream of the confluence with Pine Creek Tributary #12 | None | +508 | City of Paris, Unincorporated Areas of Lamar County.
| Approximately 184 feet upstream of 28th Street | None | +557
Smith Creek | Just downstream of the confluence with Smith Creek Tributary #15 | None | +518 | City of Paris, Unincorporated Areas of Lamar County.
| Just upstream of Center Street | None | +521
Smith Creek Tributary #15 | Just upstream of Center Street | None | +524 | City of Paris, Unincorporated Areas of Lamar County.
| Approximately 236 feet downstream of Houston Street | +581 | +588
Stillhouse Creek Tributary #20 | Approximately 227 feet downstream of Spur 139 | None | +514 | City of Paris, Unincorporated Areas of Lamar County.
| Approximately 44 feet upstream of Ridgeview Street | None | +573
Stillhouse Creek Tributary #21 | Just downstream of the confluence with Stillhouse Creek Tributary #20 | None | +526 | City of Paris, Unincorporated Areas of Lamar County.
| Approximately 32 feet downstream of Belmont Street | None | +581
Stillhouse Creek Tributary #22 | Just downstream of Highway 195 | None | +508 | City of Paris, Unincorporated Areas of Lamar County.
| Approximately 170 feet upstream of Loop 535 | None | +537
Stillhouse Creek Tributary #23 | Just downstream of the confluence with Stillhouse Creek Tributary #22 | None | +521 | City of Paris, Unincorporated Areas of Lamar County.
| Approximately 43 feet downstream of Loop 286 | None | +539
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Paris
Maps are available for inspection at PO Box 9037, Paris, TX 75461-9037.
Unincorporated Areas of Lamar County
Maps are available for inspection at 119 N Main Street, Paris, TX 75460.
Montgomery County, Texas, and Incorporated Areas
Alligator Creek Flooding Effects, its West Branch and its West Fork | At the confluence of West Fork of San Jacinto River and Alligator Creek | None | +133 | Unincorporated Areas of Montgomery County, City of Conroe.
| Approximately 375 feet upstream of Hillcrest Road | None | +195
| Approximately 650 feet upstream of Hillcrest Road | None | +215
| Just upstream of State Highway 336 and Alligator Creek | None | +238
Arnold Branch Flooding Effects | At the confluence of Mink Branch and Arnold Branch | None | +203 | Unincorporated Areas of Montgomery County.
| Approximately 800 feet downstream of Grand Oaks Boulevard | None | +214
| Approximately 2,100 feet upstream of Nichols Sawmill Road | None | +227
| Approximately 2.34 miles downstrean of Doodson Road | None | +246
Bear Branch Flooding Effects | Approximately 2,500 feet downstream of Sawdust Road | None | +117 | Unincorporated Areas of Montgomery County.
| Just downstream of Woodlands Parkway | None | +123
| At the confluence of Panther Branch and Bear Branch | None | +140
| Approximately 100 feet downstream from Kuykendahl Road | None | +157
Bee Branch Flooding Effects | Approximately 1.1 miles upstream of the confluence with Jayhawker Creek and Bee Branch | None | +129 | Unincorporated Areas of Montgomery County.
| Just upstream of Fostoria Road | None | +142
Bens Branch | Approximately 620 feet downstream from the Loop 494 | None | +79 | Unincorporated Areas of Montgomery County.
| Just downstream of Loop 494 | None | +80
Brushy Creek Flooding Effects | At the confluence of Spring Creek and Brushy Creek | None | +187 | Unincorporated Areas of Montgomery County.
| Approximately 4,550 feet upstream from the confluence of Threemile Creek and Brushy Creek | None | +214
Camp Creek Flooding Effects and its Tributaries | Just upstream of Rogers Road | None | +306 | Unincorporated Areas of Montgomery County, City of Willis.
| Just upstream of African Hill Road | None | +337
Caney Creek Flooding Effects | At the confluence of Peach Creek and Caney Creek | None | +70 | Unincorporated Areas of Montgomery County, City of Cut 'N Shoot.
| At the confluence of McRae Creek and Caney Creek | None | +183
| Approximately 6,500 feet upstream of Bilnoski Road | None | +268
| Approximately 9,000 feet upstream of Mt. Zion Road | None | +282
| Approximately 15,500 feet upstream of confluence with Caney Creek | None | +285
Caney Creek North Flooding Effects | At the confluence of Caney Creek Tributary No. 4 and Caney Creek North | None | +202 | Unincorporated Areas of Montgomery County.
| At the confluence of Kelly Branch and Caney Creek North | None | +220
Carters Slough Flooding Effects | At the confluence of West Fork of San Jacinto River and Carters Slough | None | +108 | Unincorporated Areas of Montgomery County.
| Just upstream of unnamed Railroad and Carters Slough | None | +124
Crystal Creek Flooding Effects | At the confluence of West Fork of San Jacinto River and Crystal Creek | None | +109 | Unincorporated Areas of Montgomery County, City of Conroe, City of Cut 'N Shoot.
| At the confluence of West Fork of Crystal Creek and Crystal Creek | None | +143
| At the confluence of Crystal Creek Tributary No. 4 and Crystal Creek | None | +193
| At the confluence of Crystal Creek Tributary No. 7 and Crystal Creek | None | +240
| Approximately 0.5 miles upstream of State Highway 75 | None | +307
Decker Branch Flooding Effects and its Tributaries | At the confluence of Mill Creek | None | +157 | Unincorporated Areas of Montgomery County.
| Approximately 350 feet downstream from FM 1774 County Highway | None | +208
| Approximately 440 feet upstream from Tree Meadow Road | None | +219
Dry Creek Flooding Effects and its Tributaries | At the confluence of Caney Creek and Dry Creek | None | +93 | Unincorporated Areas of Montgomery County, City of Conroe.
| Just upstream of Massey Road and Dry Creek | None | +157
Dry Creek No. 2, its Tributaries and Flooding Effects | At the confluence of unnamed intermittent river | None | +195 | Unincorporated Areas of Montgomery County.
| Approximately 190 feet downstream from Smith-Dobbin Road | None | +214
Duck Creek Flooding Effects | At the confluence of Peach Creek and Duck Creek | None | +151 | Unincorporated Areas of Montgomery County.
| Approximately 4,000 feet upstream of Duff Road | None | +191
Goodson Branch Flooding Effects and its Tributaries | At the conflunce of Decker Branch Tributary No. 1 and Goodson Branch | None | +188 | Unincorporated Areas of Montgomery County.
| Approximately 176 feet downstream from Goodson Loop | None | +217
Hightower Branch Flooding Effects | At the confluence of Peach Creek and Hightower Branch | None | +120 | Unincorporated Areas of Montgomery County.
| Approximately 9,800 feet upstream of the confluence with Peach Creek and Hightower Branch | None | +135
Jayhawker Creek Flooding Effects | Approximately 4,000 feet upstream of the confluence with Bee Branch and Jayhawker Creek | None | +128 | Unincorporated Areas of Montgomery County.
| Approximately 7,300 feet upstream of unnamed Railroad | None | +147
Lake Creek Flood Effects, its Tributaries and unnamed Streams | At the confluence of West Fork of San Jacinto River and Lake Creek | None | +133 | Unincorporated Areas of Montgomery County.
| At the confluence of Lake Creek Tributary No. 2 and Lake Creek | None | +152
| At the confluence of Landrum Creek and Lake Creek | None | +195
| Aproximately 5,760 feet upstream of the confluence with Kidhaw Branch and Lake Creek | None | +260
Lawrence Creek Flooding Effects | At the confluence of Peach Creek and Lawrence Creek | None | +146 | Unincorporated Areas of Montgomery County.
| Aproximately 1,500 feet downstream of Walker Road and Lawrence Creek | None | +191
Little Caney Creek No. 3 Flooding Effects | Approximately 2,800 feet downstream from Mount Mariah Road | None | +223 | Unincorporated Areas of Montgomery County.
| Approximately 4,300 feet upstream of Mount Mariah Road | None | +228
Little Lake Creek Flooding Effects | At the confluence of Little Lake Creek Tributary No. 6 and Little Lake Creek | None | +202 | Unincorporated Areas of Montgomery County.
| Just upstream of FM11097 County Highway | None | +305
Mares Branch Flooding Effects | At the confluence of Peach Creek and Mares Branch | None | +96 | Unincorporated Areas of Montgomery County.
| Approximately 7,000 feet upstream of the confluence of Peach Creek and Mares Branch | None | +98
McRae Creek Flooding Effects | At the confluence of Caney Creek and McRae Creek | None | +184 | Unincorporated Areas of Montgomery County.
| Approximately 9,850 feet upstream of Tanyard Road | None | +335
Mill Creek Flooding Effects and its Tributaries | At the confluence of Spring Creek and Mill Creek | None | +156 | Unincorporated Areas of Montgomery County.
| Just upstream of unnamed Railroad | None | +172
| At the confluence of Tributary No. 2 and Mill Creek | None | +190
| At the confluence of Mill Creek Tributary No. 6 | None | +214
Mink Branch Flooding Effects | At the confluence of Walnut Creek and Mink Branch | None | +189 | Unincorporated Areas of Montgomery County.
| At the confluence of Arnold Branch and Mink Branch | None | +203
| Approximately 1,500 feet downstream of Old Hempstead Road | None | +249
Orton Gully Flooding Effects | At the confluence of East Fork of San Jacinto River and Orton Gully | None | +72 | Unincorporated Areas of Montgomery County.
| Approximately 750 feet upstream of Cambridge Boulevard | None | +91
Panther Branch Flooding Effects | At the confluence of Spring Creek and Panther Branch | None | +108 | Unincorporated Areas of Montgomery County, City of Conroe, Town of Shenandoah.
| Just upstream of Magnolia Conroe Road | None | +181
| Just upstream of FM 1488 County Highway | None | +191
Peach Creek Flooding Effects and its Tributaries | At the confluence of Caney Creek and Peach Creek | None | +70 | Unincorporated Areas of Montgomery County, City of Splendora, Village of Patton Village, Village of Woodbranch.
| Approximately 15,000 feet upstream of the confluence with Duck Creek and Peach Creek | None | +164
| Approximately 17,000 feet upstream of the confluence with Peach Creek Tributary No. 3 and Peach Creek | None | +340
| Approximately 16,500 feet upstream of the confluence with Peach Creek | None | +367
Pole Creek Flooding Effects | At the confluence with Little Lake Creek and Pole Creek | None | +239 | Unincorporated Areas of Montgomery County.
| Approximately 10,000 feet upstream of Martha Williams Road | None | +297
Sand Branch No. 2 Flooding Effects | At the confluence with Little Lake Creek and Sand Branch No. 2 | None | +243 | Unincorporated Areas of Montgomery County.
| Approximately 18,000 feet upstream of the confluence with Little Lake Creek and Sand Branch No. 2 | None | +314
Silverdale Creek Flooding Effects | At the confluence of West Fork of San Jacinto River and Silverdale Creek | None | +126 | Unincorporated Areas of Montgomery County, City of Conroe.
| Just upstream of Wagers Street | None | +187
Spring Branch Flooding Effects | At the confluence of Carney Creek and Spring Branch | None | +95 | Unincorporated Areas of Montgomery County.
| Approximately 2,600 feet upstream of East Old Highway 105 Road | None | +176
Spring Branch No. 2 Flooding Effects | Approximately 1,500 feet upstream from the confluence with Landrum Creek and Spring Branch No. 2 | None | +202 | Unincorporated Areas of Montgomery County.
| Just upstream of Spring Branch Road | None | +264
Spring Creek Flooding Effects into Sam Bell Gully Diversion Channel | At the confluence of Spring Creek and Sam Bell Gully | None | +100 | Unincorporated Areas of Montgomery County, City of Oak Ridge North.
| At the confluence of Sam Bell Gully Tributary Diversion Channel and Spring Creek | None | +117
| Approximately 1,150 feet upstream from Woodson Road | None | +136
Spring Creek, its Tributaries, intermittent Streams and Flooding Effects for areas north of Spring Creek | At the confluence of West Fork of San Jacinto River and Spring Creek | None | +67 | Unincorporated Areas of Montgomery County, City of Houston.
| At the confluence of Sam Bell Gully Diversion Channel and Spring Creek | None | +100
| At the confluence of Mill Creek and Spring Creek | None | +156
| At the confluence of Walnut Creek and Spring Creek | None | +169
Stewart Creek Flooding Effects | Approximately 330 feet upstream of SH 336 | None | +148 | Unincorporated Areas of Montgomery County, City of Conroe, City of Panorama Village.
| At the confluence of Stewarts Creek Tributary No. 1 and Stewarts Creek | None | +208
| Approximately 4,000 feet upstream of FM 830 County Highway | None | +292
Sulphur Branch Flooding Effects | At the confluence of Walnut Creek and Sulfer Branch | None | +178 | Unincorporated Areas of Montgomery County, City of Stagecoach, Town of Magnolia.
| Just upstream of Greek Oak Road | None | +218
| Approximately 75 feet downstream from Magnolia Conroe Street | None | +273
Threemile Creek Flooding Effects | At the confluence of Brushy Creek and Threemile Creek | None | +208 | Unincorporated Areas of Montgomery County.
| Approximately 4,300 feet upstream from the confluence of Brushy Creek and Threemile Creek | None | +211
Walnut Creek Flooding Effects | At the confluence of Spring Creek and Walnut Creek | None | +168 | Unincorporated Areas of Montgomery County, City of Stagecoach.
| At the confluence of Mink Branch and Walnut Creek | None | +189
| At the confluence of Log Gully and Walnut Creek | None | +195
| Approximately 3,200 feet upstream from unnamed Tributary | None | +223
West Fork of Spring Branch Flooding Effects | At the confluence of Spring Branch and West Fork of Spring Branch | None | +129 | Unincorporated Areas of Montgomery County.
| Approximately 3,300 feet upstream of Pine Road | None | +191
White Oak Creek Flooding Effects | Approximately 20,000 feet downstream of unnamed Railroad | None | +67 | Unincorporated Areas of Montgomery County.
| Approximately 5,100 feet downstream of unnamed Railroad | None | +80
Woodsons Gully Flooding Effects | At the confluence of West Fork of San Jancinto River and Woodsons Gully | None | +78 | Unincorporated Areas of Montgomery County.
| Approximately 15,100 feet upstream of Riley Fuzzel Road | None | +111
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Conroe
Maps are available for inspection at 505 West Davis, Conroe, TX 77301.
City of Cut 'N Shoot
Maps are available for inspection at 14391 East Highway 105, Cut 'N Shoot, TX 77303.
City of Houston
Maps are available for inspection at 611 Walker Road, Houston, TX 77002.
City of Oak Ridge North
Maps are available for inspection at 27326 Robinson Road, Suite 115, Conroe, TX 77385.
City of Panorama Village
Maps are available for inspection at 98 Hiwon Drive, Panorama Village, TX 77304.
City of Splendora
Maps are available for inspection at 16940 Main Street, Splendora, TX 77372.
City of Stagecoach
Maps are available for inspection at 16022 Westward Ho, Mongolia Texas, TX 77355.
City of Willis
Maps are available for inspection at P.O. Box 436, Willis, TX 77378.
Town of Magnolia
Maps are available for inspection at 510 Magnolia Blvd, Magnolia, TX 77356.
Town of Shenandoah
Maps are available for inspection at 29811 I-45 North, Shenandoah, TX 77381.
Unincorporated Areas of Montgomery County
Maps are available for inspection at 301 North Thompson, Suite 210, Conroe, TX 77301.
Village of Patton Village
Maps are available for inspection at 16940 Main Street, Splendora, TX 77372.
Village of Woodbranch
Maps are available for inspection at 2626 North Woodloch Drive, Conroe, TX 77385.
Green Lake County, Wisconsin, and Incorporated Areas
Grand River | At Mill Pond Inlet | None | +795 | Village of Kingston.
| At Mill Pond Dam | None | +795
Green Lake | Along the entire Green Lake Shoreline | None | +799 | City of Green Lake.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Green Lake
Maps are available for inspection at City Hall, 534 Mill Street, Green Lake, WI 54941.
Village of Kingston
Maps are available for inspection at Village Hall, 105 West Ann Street, Kingston, WI 53939.
Outagamie County, Wisconsin, and Incorporated Areas
AAL Tributary | At the confluence with Apple Creek | None | +742 | City of Appleton.
| Approximately 410 feet upstream of North Lightning Drive | None | +746
Apple Creek | Approximately 0.92 miles upstream of Garrity Road | None | +646 | City of Appleton, Unincorporated Areas of Outagamie County, Village of Little Chute.
| Approximately 0.33 miles upstream of U.S. Highway 41 | None | +774
Apple Creek North | At the confluence with Apple Creek | None | +729 | City of Appleton, Unincorporated Areas of Outagamie County.
| Approximately 90 feet upstream of County Highway E | None | +780
Apple Creek North Overland Flow | At the confluence with Apple Creek Northeast | None | +737 | City of Appleton, Unincorporated Areas of Outagamie County.
| At the divergence from Apple Creek North | None | +744
Apple Creek Northeast | At the confluence with Apple Creek | None | +721 | City of Appleton, Unincorporated Areas of Outagamie County.
| Approximately 0.35 miles upstream of Lanser Lane | None | +761
Apple Creek Overland Flow | At the confluence with Apple Creek | None | +757 | City of Appleton.
| Approximately 0.23 miles above the confluence with Apple Creek | None | +767
County Highway JJ Swale | At the confluence with Apple Creek | None | +729 | Unincorporated Areas of Outagamie County.
| Approximately 920 feet upstream of the confluence with Apple Creek | None | +730
Fox River | Approximately 0.56 miles upstream of State Highway 441 | +704 | +703 | City of Appleton, Unincorporated Areas of Outagamie County.
| Approximately 200 feet downstream of Appleton Upper Dam | +725 | +728
Fox River | Approximately 0.27 miles downstream of Rapids Croche Dam | None | +603 | Unincorporated Areas of Outagamie County.
| Approximately 0.87 miles downstream of Thilmany Dam | None | +610
French Road Overland Flow | At the confluence with French Road Swale | None | +738 | City of Appleton.
| Approximately 960 feet above the confluence with French Road Swale | None | +743
French Road Swale | At the confluence with Apple Creek | None | +733 | City of Appleton.
| At the divergence from Apple Creek North | None | +747
Garners Creek | At the confluence with Fox River | +662 | +660 | City of Appleton, Unincorporated Areas of Outagamie County, Village of Combined Locks, Village of Kimberly, Village of Little Chute.
| Approximately 0.28 miles upstream of Stoney Brook Road | None | +773
Garners Creek Tributary 1 | At the confluence with Garners Creek | None | +666 | Village of Combined Locks, Unincorporated Areas of Outagamie County.
| Approximately 1.28 miles upstream from Block Road | None | +747
Garners Creek Tributary 2 | At the confluence with Garners Creek | None | +698 | Unincorporated Areas of Outagamie County.
| Approximately 30 feet upstream of Greenspire Way | None | +748
Garners Creek Tributary 3 | At the confluence with Garners Creek | None | +711 | Unincorporated Areas of Outagamie County.
| Approximately 401 feet upstream of Fenceline Drive | None | +757
Garners Creek Tributary 3.1 | At the confluence with Garners Creek Tributary 3 | None | +733 | Unincorporated Areas of Outagamie County.
| Approximately 0.20 miles from the confluence with Garners Creek Tributary 3 | None | +740
Garners Creek Tributary 4 | Approximately 50 feet downstream of State Highway 441 | None | +753 | City of Appleton, Unincorporated Areas of Outagamie County.
| At the confluence with Garners Creek | None | +753
Glory Lane Swale | At the confluence with Apple Creek | None | +733 | City of Appleton.
| Approximately 120 feet south of Glory Lane | None | +734
Mud Creek | Approximately 1.33 miles downstream of West Spencer Street | +745 | +744 | Unincorporated Areas of Outagamie County.
| Approximately 170 feet downstream of North Mayflower Drive | None | +837
Mud Creek Tributary 3.2 | At the confluence with Mud Creek Tributary 3 | None | +774 | Unincorporated Areas of Outagamie County.
| Approximately 0.51 miles upstream of Elsner Road | None | +805
Mud Creek Tributary 3.3 | At the confluence with Mud Creek Tributary 3 | None | +774 | Unincorporated Areas of Outagamie County.
| Approximately 500 feet upstream of State Highway 15 | None | +846
Mud Creek Tributary 3.3.2 | At the confluence with Mud Creek Tributary 3.3 | None | +791 | Unincorporated Areas of Outagamie County.
| Approximately 100 feet downstream of County Highway JJ | None | +800
Mud Creek Tributary 3.3.3 | Approximately 370 feet downstream of Barley Way | None | +797 | Unincorporated Areas of Outagamie County.
| Approximately 150 feet downstream of County Highway JJ | None | +800
Wolf River | Approximately 1.13 miles downstream of U.S. Highway 45 | +760 | +761 | City of New London.
| Approximately 1.19 miles downstream of U.S. Highway 45 | +760 | +761
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Appleton
Maps are available for inspection at 100 North Appleton Street, Appleton, WI 54911-4799.
City of New London
Maps are available for inspection at 405 West Wolf River Avenue, New London, WI 54961.
Unincorporated Areas of Outagamie County
Maps are available for inspection at 410 South Walnut Street, Appleton, WI 54911.
Village of Combined Locks
Maps are available for inspection at 405 Wallace Street, Combined Locks, WI 54113.
Village of Kimberly
Maps are available for inspection at 515 West Kimberly Avenue, Kimberly, WI 54136.
Village of Little Chute
Maps are available for inspection at 108 West Main Street, Little Chute, WI 54140.

(Catalog of Federal Domestic Assistance No. 97.022, “Flood Insurance.”)

Dated: March 16, 2009.
Michael K. Buckley,
Acting Assistant Administrator, Mitigation Directorate, Department of Homeland Security, Federal Emergency Management Agency.

[FR Doc. E9-6669 Filed 3-24-09; 8:45 am]

BILLING CODE 9110-12-P